DEPARTMENT OF COMMERCE

National Oceanic and Atmospheric Administration

[RTID 0648-XE575]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, January 28, 2025 through Thursday, January 30, 2025, beginning at 12:30 p.m. on Tuesday and 9 a.m. on Wednesday and Thursday.

ADDRESSES: The meeting will take place at The Venue at Portwalk Place, 22 Portwalk Place, Portsmouth, NH; telephone: (603) 422-6114; online at https://www.thevenueatportwalkplace.com. Join the webinar at https://attendee.gotowebinar.com/register/3666534172564880989.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, January 28, 2025

After brief announcements, the Council will receive reports on recent activities from its Chair and Executive Director, the Greater Atlantic Regional Fisheries Office (GARFO) Regional Administrator, the Northeast Fisheries Science Center (NEFSC) Director, the NOAA Office of General Counsel, the Mid-Atlantic Fishery Management Council liaison, and representatives from the Atlantic States Marine Fisheries Commission (ASMFC), the U.S. Coast Guard, NOAA's Office of Law Enforcement, and the Advisory Committee to the U.S. Section to the International Commission for the Conservation of Atlantic Tunas (ICCAT). Next, the Council will receive a report from its Risk Policy Working Group on updates to the implementation strategy for the Council's revised Risk Policy. The Habitat Committee report will follow. The Council will receive an overview of new essential fish habitat (EFH) designation methods and the EFH Review Report before providing direction on future actions. Next, the Council will: (1) approve updates to the Scientific and Statistical Committee (SSC) section of the Council's Operations Handbook; (2) adjourn the public portion of the meeting; and (3) enter into closed session to discuss SSC appointments.

Wednesday, January 29, 2025

The Council will begin the second day of its meeting with a survey update from the Northeast Fisheries Science Center on: (1) the 2024 survey season; (2) continency planning for the NOAA Ship Henry B. Bigelow; (3) the shakedown cruise for the NOAA Ship Pisces; (4) Northeast Trawl Advisory Panel work on an industry-based trawl survey; and (5) other survey-related issues. The Northeast Fisheries Science Center also will provide a presentation on the peer-reviewed results of the 2024 Yellowtail Flounder Research Track Stock Assessment. The Council then will receive a NOAA Fisheries presentation on the Marine Recreational Information Program (MRIP) Fishing Effort Survey follow-up study, which will be followed by a public listening session on NOAA Fisheries' collaborative initiative to re-envision recreational fishing data collection partnership approaches.

Following the lunch break, the Council will hear from the Groundfish Committee and provide recommendations to GARFO on fishing year 2025 recreational measures for Western Gulf of Maine cod and Gulf of Maine haddock. It also will receive an overview of the 2025 groundfish work priorities, including Phase 2 cod transition planning. The Council then will engage in a special session on fisheries and habitat research in offshore wind areas, which will include six short presentations. Following adjournment, the Council will host its Public Outreach gathering, an informational exchange to foster open lines of communication among Council members, staff, industry, and meeting attendees. All are welcome and light snacks will be provided. Public Outreach will be combined with a poster session on fisheries and habitat research in offshore wind areas, as well as port hours by offshore wind developers. These events will take place at the AC Hotel at 299 Vaughn Street in Portsmouth, NH, a 4-minute walk from the Council's meeting room at The Venue at Portwalk Place.

Thursday, January 30, 2025

The Council will lead off the third day of its meeting with the Atlantic Herring Committee report, which will begin with an update on Amendment 10 to the Atlantic Herring Fishery Management Plan. Amendment 10 is an action to minimize user conflicts in the Atlantic herring fishery and address river herring/shad catch. The Council also will: (1) receive an overview of ASMFC's 2024 river herring benchmark stock assessment; (2) discuss preliminary 2024 year-end catch information prepared by the Herring Plan Development Team; and (3) possibly consider revised recommendations for 2025 specifications. The Scallop Committee will provide a presentation on the development of a Scallop Strategic Plan. The Council will review the workplan for this initiative and the schedule for outreach meetings. It also will receive an overview of the 2025 scallop work priorities. Next, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. After public comment, the Council's On-Demand Fishing Gear Conflict Working Group will provide a progress report on work towards addressing the group's terms of reference, which include identifying the implications of on-demand fishing gear use for Council-managed fisheries. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: December 20, 2024.
Rey Israel Marquez,
Acting Deputy Director, Office of Sustainable Fisheries, National Marine Fisheries Service.

[FR Doc. 2024-31176 Filed 12-30-24; 8:45 am]

BILLING CODE 3510-22-P